DEPARTMENT OF ENERGY

Federal Energy Regulatory Commission

[Docket No. RP04-146-001]

Southwest Gas Storage Company; Notice of Compliance Filing

February 12, 2004.

Take notice that on February 4, 2004, Southwest Gas Storage Company (Southwest) tendered for filing as part of its FERC Gas Tariff, First Revised Volume No. 1, Third Revised Sheet No. 125 proposed to become effective March 1, 2004.

Southwest states that the purpose of this filing is to replace Second Revised Sheet No. 125 in the original filing on January 30, 2004, with Third Revised Sheet No. 125. Southwest further states that in its original filing in the subject docket, Southwest inadvertently submitted Second Revised Sheet No. 125, which had previously been rejected as moot in the Commission's Letter Order dated April 25, 2003, in Docket No. RP00-471-001.

Southwest further states that copies of this filing are being served on all affected customers and applicable State regulatory agencies.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-330 Filed 2-18-04; 8:45 am]

BILLING CODE 6717-01-P